OFFICE OF PERSONNEL MANAGEMENT

Excepted Service

AGENCY: U.S. Office of Personnel Management (OPM).

ACTION: Notice.

SUMMARY: This notice identifies Schedule A, B, and C appointing authorities applicable to a single agency that were established or revoked from September 1, 2015, to September 30, 2015.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

11. Department of Homeland Security (Sch. A, 213.3111)

(d) General—

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. Appointments may be made under this authority until the regulations implementing Border Patrol Agency Pay Reform Act of 2014 become effective or until June 30, 2016, whichever comes first.

Schedule B

No Schedule B Authorities to report during September 2015.

Schedule C

The following Schedule C appointing authorities were approved during September 2015.

Agency name | Organization name | Position title | Authorization No. | Effective date
DEPARTMENT OF AGRICULTURE | Office of the Assistant Secretary for Congressional Relations | Legislative Analyst | DA150185 | 9/4/2015
| Rural Utilities Service | Policy Advisor | DA150190 | 9/17/2015
| Office of the Under Secretary for Rural Development | Special Advisor | DA150192 | 9/22/2015
| Office of the Assistant Secretary for Congressional Relations | Senior Legislative Analyst | DA150196 | 9/30/2015
DEPARTMENT OF COMMERCE | Office of Assistant Secretary for Economic Development | Policy Advisor | DC150154 | 9/4/2015
| Office of Policy and Strategic Planning | Confidential Assistant | DC150164 | 9/4/2015
| Office of Scheduling and Advance | Special Assistant | DC150165 | 9/4/2015
| Economics and Statistics Administration | Press Secretary | DC150171 | 9/10/2015
| Office of Director General of the U.S. and Foreign Commercial Service and Assistant Secretary for Global Markets | Special Advisor | DC150167 | 9/11/2015
| Immediate Office of the Secretary | Executive Assistant | DC150168 | 9/11/2015
COMMODITY FUTURES TRADING COMMISSION | Office of the Commissioner | Policy Advisor | CT150003 | 9/10/2015
CONSUMER PRODUCT SAFETY COMMISSION | Office of Commissioners | Special Assistant | PS150006 | 9/15/2015
DEPARTMENT OF DEFENSE | Office of the Deputy Chief Management Officer | Special Assistant | DD150185 | 9/3/2015
| Office of Under Secretary of Defense (Intelligence) | Special Assistant (Intelligence) | DD150189 | 9/11/2015
| Office of the Under Secretary of Defense (Policy) | Special Assistant for Afghanistan, Pakistan, and Central Asia | DD150179 | 9/16/2015
| Office of the Assistant Secretary of Defense (International Security Affairs) | Senior Advisor for Russia, Ukraine and Eurasia Policy | DD150184 | 9/16/2015
DEPARTMENT OF EDUCATION | Office of the Secretary | Special Assistant | DB150122 | 9/4/2015
|  | Deputy Director of Advance | DB150124 | 9/29/2015
| Office of Elementary and Secondary Education | Confidential Assistant | DB150125 | 9/28/2015
DEPARTMENT OF ENERGY | Office of Scheduling and Advance | Director, Office of Scheduling and Advance | DE150140 | 9/3/2015
| Office of Assistant Secretary for Energy Efficiency and Renewable Energy | Senior Advisor | DE150143 | 9/10/2015
| Office of Public Affairs | Press Secretary | DE150141 | 9/29/2015
ENVIRONMENTAL PROTECTION AGENCY | Office of Public Engagement and Environmental Education | Deputy Director for Public Engagement and Public Health Based Initiatives | EP150052 | 9/14/2015
| Office of the Administrator | Special Advisor | EP150056 | 9/15/2015
FEDERAL ENERGY REGULATORY COMMISSION | Office of the Chairman | Program Analyst | DR150019 | 9/3/2015
DEPARTMENT OF HOMELAND SECURITY | Office of the Chief of Staff | Special Assistant | DM150251 | 9/3/2015
| Office of the Assistant Secretary for Public Affairs | Assistant Press Secretary | DM150221 | 9/9/2015
|  | Director of Strategic Communications | DM150262 | 9/16/2015
DEPARTMENT OF HOUSING AND URBAN DEVELOPMENT | Office of Public and Indian Housing | Senior Policy Advisor | DU150074 | 9/3/2015
DEPARTMENT OF THE INTERIOR | Office of Assistant Secretary—Insular Areas | Advisor | DI150122 | 9/29/2015
DEPARTMENT OF JUSTICE | Office of the Attorney General | Director of Advance | DJ150129 | 9/18/2015
DEPARTMENT OF LABOR | Office of Federal Contract Compliance Programs | Special Assistant | DL150085 | 9/2/2015
| Office of the Secretary | Advisor for Private Sector Engagement | DL150086 | 9/11/2015
| Bureau of International Labor Affairs | Special Assistant | DL150089 | 9/17/2015
NATIONAL TRANSPORTATION SAFETY BOARD | Office of Board Members | Confidential Assistant | TB150008 | 9/25/2015
OFFICE OF MANAGEMENT AND BUDGET | Office of Communications | Deputy Associate Director for Communications | BO150038 | 9/4/2015
|  | Press Assistant | BO150040 | 9/15/2015
| Office of the Director | Senior Advisor | BO150042 | 9/25/2015
OFFICE OF NATIONAL DRUG CONTROL POLICY | Office of State, Local and Tribal Affairs | Policy Specialist (2) | QQ150005 | 9/2/2015
|  |  | QQ150004 | 9/4/2015
SECURITIES AND EXCHANGE COMMISSION | Office of the Chairman | Executive Correspondence Coordinator | SE150005 | 9/10/2015
SMALL BUSINESS ADMINISTRATION | Office of Capital Access | Senior Advisor | SB150053 | 9/3/2015
| Office of Native American Affairs | Assistant Administrator for Native American Affairs | SB150054 | 9/3/2015
| Office of the Administrator | Senior Advisor | SB150055 | 9/4/2015
| Office of Government Contracting and Business Development | Senior Advisor | SB150057 | 9/17/2015
| Office of Investment and Innovation | Special Advisor | SB150059 | 9/29/2015
DEPARTMENT OF STATE | Bureau of Legislative Affairs | Deputy Assistant Secretary | DS150113 | 9/2/2015
| Office of International Information Programs | Information Technology Specialist | DS150112 | 9/10/2015
| Bureau for Education and Cultural Affairs | Special Assistant | DS150123 | 9/25/2015
|  | Supervisory Public Affairs Specialist | DS150129 | 9/25/2015
| Bureau of Democracy, Human Rights and Labor | Senior Advisor | DS150124 | 9/25/2015
| Bureau of Legislative Affairs | Legislative Management Officer | DS150125 | 9/25/2015
| Bureau of Economic and Business Affairs | Senior Advisor | DS150130 | 9/25/2015
| Office of the Secretary | Special Assistant | DS150091 | 9/29/2015
| Office of the United States Aids Coordinator | Senior Advisor | DS150121 | 9/29/2015
DEPARTMENT OF TRANSPORTATION | Office of the Secretary | Special Assistant (Scheduling and Advance) (2) | DT150083 DT150084 | 9/15/2015 9/15/2015
DEPARTMENT OF THE TREASURY | Office of the Assistant Secretary (Legislative Affairs) | Special Advisor | DY150136 | 9/2/2015
| Office of the Assistant Secretary (Public Affairs) | Senior Advisor | DY150137 | 9/3/2015
| Office of the Secretary | Deputy Executive Secretary | DY150144 | 9/16/2015
|  | Special Advisor | DY150147 | 9/30/2015
DEPARTMENT OF VETERANS AFFAIRS | Office of the Assistant Secretary for Policy and Planning | Director Insight and Design Director Special Programs | DV150056 DV150057 | 9/4/2015 9/4/2015

The following Schedule C appointing authorities were revoked during September 2015.

Agency name | Organization name | Position title | Authorization No. | Vacate date
COMMODITY FUTURES TRADING COMMISSION | Office of the Chairman | Policy Advisor | CT150001 | 9/19/15
DEPARTMENT OF COMMERCE | Office of Assistant Secretary for Industry and Analysis | Special Advisor | DC150057 | 9/5/15
| Office of Public Affairs | Deputy Speechwriter | DC140165 | 9/5/15
| Office of the Chief of Staff | Scheduling Assistant | DC140142 | 9/5/15
| Office of the General Counsel | Special Assistant | DC130091 | 9/5/15
| Immediate Office of the Secretary | Executive Assistant to the Secretary | DC150056 | 9/11/15
OFFICE OF THE SECRETARY OF DEFENSE | Washington Headquarters Services | Defense Fellow | DD120089 | 9/5/15
DEPARTMENT OF ENERGY | Loan Programs Office | Senior Advisor | DE140109 | 9/5/15
DEPARTMENT OF HEALTH AND HUMAN SERVICES | Center for Consumer Information and Insurance Oversight | State Exchange Group Director | DH140101 | 9/11/15
DEPARTMENT OF HOUSING AND URBAN DEVELOPMENT | Office of Congressional and Intergovernmental Relations | Senior Advisor | DU140008 | 9/5/15
| Office of the Secretary | Senior Policy Advisor | DU140042 | 9/5/15
| Office of Field Policy and Management | Senior Advisor for Housing Policy and Programs | DU130007 | 9/19/15
DEPARTMENT OF JUSTICE | Office of the Attorney General | Director of Scheduling and Advance | DJ150095 | 9/4/15
| Office of the Deputy Attorney General | Senior Counsel | DJ100172 | 9/5/15
DEPARTMENT OF LABOR | Office of Public Affairs | Special Assistant | DL120023 | 9/13/15
NATIONAL AERONAUTICS AND SPACE ADMINISTRATION | Office of Legislative and Intergovernmental Affairs | Senior Advisor | NN140066 | 9/19/15
OFFICE OF MANAGEMENT AND BUDGET | Office of Communications | Press Secretary | BO150001 | 9/5/15
OFFICE OF PERSONNEL MANAGEMENT | Office of the Director | Senior Advisor to the Director | PM150004 | 9/25/15

Authority: 5 U.S.C. 3301 and 3302; E.O. 10577, 3 CFR, 1954-1958 Comp., p. 218.

U.S. Office of Personnel Management.
Beth F. Cobert,
Acting Director.

[FR Doc. 2015-28566 Filed 11-9-15; 8:45 am]

BILLING CODE 6325-39-P